FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 8135N.

Name: C & F Worldwide Agency Corp.

Address: Carr. 848 KM 3.2, Calle Diaz Final, Saint Just-Carolina, PR 00983.

Date Revoked: November 15, 2003.

Reason: Failed to maintain a valid bond.

License Number: 4507NF.

Name: Cargo Systems Int'L. Corp.

Address: 1426 NW 82nd Avenue, Miami, FL 33126.

Date Revoked: November 28, 2003.

Reason: Failed to maintain valid bonds.

License Number: 4527F.

Name: Colonial Trade Co., Inc.

Address: 8319 Lages Lane, Baltimore, MD 21244.

Date Revoked: November 27, 2003.

Reason: Failed to maintain a valid bond.

License Number: 3288F.

Name: H. Conrad & Associates, Inc.

Address: 2206 East 7th Avenue, Tampa, FL 33605.

Date Revoked: November 13, 2003.

Reason: Failed to maintain a valid bond.

License Number: 4663NF.

Name: International Freight Services, Inc.

Address: 10125 NW 116th Way, Suite 18, Medley, FL 33178.

Date Revoked: November 30, 2003.

Reason: Failed to maintain valid bonds.

License Number: 17442NF.

Name: Klasman-Varnak USA, Inc.

Address: 1099 Wall Street West, Suite 170, Lyndhurst, NJ 07071.

Date Revoked: November 18, 2003.

Reason: Failed to maintain valid bonds.

License Number: 16329N.

Name: Lanna International Corp.

Address: 69-40 Garfield Avenue, Woodside, NY 11377.

Date Revoked: November 13, 2003.

Reason: Failed to maintain a valid bond.

License Number: 18276N.

Name: Nisco Pacific, Inc.

Address: 500 W. Victoria Street, Compton, CA 90220.

Date Revoked: November 21, 2003.

Reason: Surrendered license voluntarily.

License Number: 10526N.

Name: Polamer, Inc.

Address: 3094 N. Milwaukee Avenue, Chicago, IL 60618.

Date Revoked: November 15, 2003.

Reason: Failed to maintain a valid bond.

License Number: 17668N.

Name: Power Light Shipping Co., Inc.

Address: 15358 Valley Blvd., City of Industry, CA 91746.

Date Revoked: November 21, 2003.

Reason: Failed to maintain a valid bond.

License Number: 15863N.

Name: Seatrex International Corp.

Address: 175 Armstrong Road, Des Plaines, IL 60018.

Date Revoked: November 27, 2003.

Reason: Failed to maintain a valid bond.

Sandra L. Kusumoto,
Director, Bureau of Consumer Complaints and Licensing.

[FR Doc. 03-30665 Filed 12-10-03; 8:45 am]

BILLING CODE 6730-01-P